NUCLEAR WASTE TECHNICAL REVIEW BOARD

Virtual Public Board Meeting To Review the U.S. Department of Energy's Activities To Evaluate Advanced Nuclear Fuels

Board meeting: May 12-13, 2021—The U.S. Nuclear Waste Technical Review Board will hold a virtual public meeting to review information on the U.S. Department of Energy's (DOE) activities to evaluate advanced nuclear fuels including accident tolerant fuels for light water reactors and the impact of these fuels on spent nuclear fuel management and disposal.

Pursuant to its authority under section 5051 of Public Law 100-203, Nuclear Waste Policy Amendments Act (NWPAA) of 1987, the U.S. Nuclear Waste Technical Review Board will hold a virtual public meeting on Wednesday, May 12, 2021, and Thursday, May 13, 2021, to review information on the U.S. Department of Energy's (DOE) activities to evaluate advanced nuclear fuels including accident tolerant fuels for light water reactors and the impact of these fuels on spent nuclear fuel (SNF) management and disposal.

The meeting will begin on both days at 12:00 p.m. Eastern Daylight Time (EDT) and is scheduled to adjourn at 5:00 p.m. EDT on both days. On May 12, speakers representing the DOE Office of Nuclear Energy and the national laboratories conducting the work for DOE will report on DOE's activities to support and evaluate these fuels both prior to, and after, their use in nuclear reactors. Speakers will describe DOE's program, including its purpose, scope, goals, and technical approach for obtaining information that may be needed for managing the advanced nuclear fuels including accident tolerant fuels once removed from the reactors and disposing of the SNF. A representative from the nuclear industry will also discuss efforts to develop new metallic fuel for light water reactors. Speakers from the U.S. Nuclear Regulatory Commission will describe their plans and progress to assess the regulatory implications of accident tolerant fuels and their potential impact on storage, transportation, and disposal. On May 13, speakers from Switzerland, Sweden, and the United Kingdom will describe their respective efforts to address the introduction and use of advanced nuclear fuels including accident tolerant fuels for light water reactors and the impact of these fuels on SNF management and disposal. The meeting will end with a panel discussion of speakers from both days of the meeting. A detailed meeting agenda will be available on the Board's website at www.nwtrb.gov approximately one week before the meeting.

The meeting will be open to the public, and opportunities for public comment will be provided. Details on how to submit public comments during the meeting will be provided on the Board's website along with the details for viewing the meeting. A limit may be set on the time allowed for the presentation of individual remarks. However, written comments of any length may be submitted to the Board staff by mail or electronic mail. All comments received in writing will be included in the meeting record, which will be posted on the Board's website after the meeting. An archived recording of the meeting will be available on the Board's website following the meeting. The transcript of the meeting will be available on the Board's website by July 12, 2021.

The Board was established in the Nuclear Waste Policy Amendments Act of 1987 as an independent federal agency in the Executive Branch to evaluate the technical and scientific validity of DOE activities related to the management and disposal of SNF and high-level radioactive waste, and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Bret Leslie: leslie@nwtrb.gov or Jo Jo Lee: lee@nwtrb.gov. For information on logistics, or to request copies of the meeting agenda or transcript, contact Davonya Barnes: barnes@nwtrb.gov. All three may be reached by mail at 2300 Clarendon Boulevard, Suite 1300, Arlington, VA 22201-3367; by telephone at 703-235-4473; or by fax at 703-235-4495.

Dated: April 16, 2021.
Nigel Mote,
Executive Director, U.S. Nuclear Waste Technical Review Board.

[FR Doc. 2021-08230 Filed 5-5-21; 8:45 am]

BILLING CODE 6820-AM-P